DEPARTMENT OF JUSTICE

Notice of Lodging of Consent Decree Under the Comprehensive Environmental Response, Compensation, and Liability Act

Notice is hereby given that on May 26, 2009, a proposed Consent Decree (“Decree”) in United States et al. v. Cyprus Tohono Corporation, Civil Action No. 4:09-cv-296, was lodged with the United States District Court for the District of Arizona.

The consent decree resolves a claim against the Cyprus Tohono Corporation brought by the United States under section 107 of the Comprehensive Environmental Response, Compensation, and Liability Act (“CERCLA”), 42 U.S.C. 9607, for damages for injuries to natural resources resulting from release of hazardous substances at the Cyprus Tohono Mine Site, located on the Tohono O'odham Nation, near North Komelik, Arizona.

Under the Consent Decree, the Defendant will pay $825,000 for damages to the Department of the Interior and the Tohono O'odham Nation, collectively acting as Trustees of the injured natural resources. The consent decree includes a covenant not to sue by the United States and the Nation under CERCLA for past damages for past injuries to natural resources. All other claims, including claims under CERCLA for future damages, are reserved.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should reference United States et al. v. Cyprus Tohono Corporation, Civil Action No. 4:09-cv-296 and DOJ Ref. No. 90-11-2-1240/1.

The Decree may be examined at the Office of Attorney General, Two Renaissance Square, 40 North Central Ave., Ste. 1200, Phoenix, AZ 85004-4408. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7 (25 cents per page reproduction cost) for a copy of the consent decree, payable to the U.S. Treasury or, if by e-mail or fax, forward a check in that amount to the Consent Decree Library at the stated address.

Maureen Katz,
Assistant Chief, Environmental Enforcement Section, Environment and Natural Resources Division.

[FR Doc. E9-12662 Filed 6-1-09; 8:45 am]

P